DEPARTMENT OF JUSTICE

National Institute of Corrections

Solicitation for a Cooperative Agreement: Guidebook for Building High Performance Correctional Organizations

AGENCY: National Institute of Corrections, U.S. Department of Justice.

ACTION: Solicitation for Cooperative Agreement.

SUMMARY: The National Institute of Corrections (NIC) is soliciting proposals from organizations, groups, or individuals to enter into a cooperative agreement for an eight-month period to begin in September 2010. Work under this agreement will continue NIC's High Performance Correctional Organizations Project that has been developed over the past four years. This project will consolidate the work into a guidebook to be placed in the public domain for use by correctional administrators.

The project funded under this cooperative agreement will continue and extend the work of Building High Performance Correctional Organizations (BHPCO) and other NIC projects.

Intended outcome: The intended outcome for this project will include creating a guidebook for jails, community corrections and prisons; developing ways to address agency inefficiencies that result from the lack of a holistic and integrated perspective; establishing a core set of values or guiding principles that agencies can apply to correctional disciplines to enhance business practices; improving organizational performance by assessing strengths, weaknesses, opportunities, resources and threats; prioritizing goals and objectives; and containing costs associated with operating correctional agencies and systems.

DATES: Applications must be received by 4 p.m. (EDT) on Monday, August 2, 2010. Selection of the successful applicant and notification of review results will be announced to all applicants by September 30, 2010.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup. Faxed or e-mailed applications will not be accepted. Electronic applications can be submitted only via http://www.grants.gov.

FOR FURTHER INFORMATION: A copy of this announcement and the required application forms can be downloaded from the NIC Web site at http://www.nicic.gov/cooperativeagreements.

All technical questions concerning this announcement should be directed to Pamela Davison. She can be reached by calling 1-800-995-6423 ext 0484 or by e-mail at pdavison@bop.gov. All programmatic questions concerning this announcement should be directed to Sherry Carroll. She can be reached by calling 1-800-995-6423 ext 0378 or by e-mail at scarroll@bop.gov.

SUPPLEMENTARY INFORMATION:

Project Goals: The BHPCO Guidebook is a compendium of advice and best practice guidance that inform higher performance in correctional institutions. Its intended audience includes managers, executives, supervisors, and staff personnel vested in success and continuous improvement, contributing to a just and humane society through their work in safe, functional, correctional facilities. At a minimum, the Guidebook—a series of stand-alone issuances that can be compiled as chapters in a larger volume—provides credible, easily accessible reference material in a variety of areas in which correctional administrators are most vulnerable, where desired and current state gaps are at their widest, and where system-wide competency needs are defined. Because the variety of institutions is broad and the complexity of the myriad systems influencing performance is unique to individual cases, material presented in the guide cannot be expected to satisfy all end-state situational solutions. Instead, it offers current best practice advice, assessment, guidance, learning, and resource direction, enabling the foundation of a learning culture and a high performance mindset.

The recipient of the award under this cooperative agreement will: (1) Coordinate chapters of the guidebook on leadership, assessments, intervention, change management and other related topics; (2) schedule and provide logistics for one face-to-face meeting (may also include stipend fees) for NIC selected guidebook team members of up to ten members; (3) compile an information library of resources and case studies from organizations going through organizational change; (4) provide the guidebook in hardcopy and electronic Word 2003 or higher format; (5) create learning objectives in preparation for a second cycle of the guidebook project to train pilot participants on the prototype guidebook; (6) refine assessment tools previously developed for this project linking assessments to interventions; (7) identify any additional information and/or language that will enhance cohesion of the guidebook for audience member's consumption; and (8) become familiar with Baldrige criteria.

Background: Through a number of prior cooperative agreements, NIC has been developing a definition, identifying characteristics of a high performing correctional organization (HPCO) and developing assessment tools for an HPCO. During 2006, NIC sponsored a workgroup of subject matter experts. The group identified nine categories or core guiding principles considered as important factors in determining criminal justice system performance on the state or local governance level for community corrections. Those principles are: (1) Leadership and management development, (2) information and knowledge management; (3) comprehensive criminal justice planning, (4) offender management, (5) collaborative partnerships, (6) organizational development, (7) accurate, fair and timely processes, (8) stewardship of public resources, and (9) public safety.

In 2008, the work evolved through a series of interviews, focus groups, sites visits, content analyses, and literature reviews. A group of roundtable members authored the HPCO definition and created a preliminary draft model. The group authored the following definition: An HPCO provides public safety through guiding principles, beliefs, attitudes, and behaviors that the organization as a whole and each member of its workforce embody and promote. An HPCO visibly demonstrates alignment in values-oriented mission statements, vision, and strategic plans; distributive leadership that actively engages performance measures to instigate continuous learning within the work force and among partners; diligent stewardship of resources.

The HPCO realizes it is part of a wider community, which must be related to with open communication and transparency.

Design Preliminary Model: Various models were examined for visual appeal, content, and format to be used by the roundtable members to serve as examples for the creation of the draft HPCO model. The current model is nonlinear, emphasizes nine to ten core values and incorporates the Baldrige National Quality Program criteria.

Required Expertise: Successful applicants should be able to demonstrate that they have the organizational capacity to fulfill all the goals of the project, including experience in organizing and providing ongoing support for complex, multi-year projects, extensive experience in correctional policy and practice, and a record of success in working with correctional agencies on implementation, organizational development, or technical assistance projects. Preference will also be given to applicants with a record of working with interdisciplinary teams in a variety of fields beyond corrections.

Application Requirements: Applications should be concisely written, typed double spaced and reference the “NIC Opportunity Number” and Title provided in this announcement. Please limit the program narrative text to up to 15 double-spaced pages, exclusive of resumes and summaries of experience (do not submit full curriculum vitae). The application package must include a cover letter that identifies the audit agency responsible for the applicant's financial accounts as well as the audit period or fiscal year that the applicant operates under (e.g., January 1 through December 31), a program narrative responding to the requirements in this announcement, a description of the qualifications of the applicant(s), an outline explaining projected costs, and the following forms: OMB Standard Form 424, Application for Federal Assistance; OMB Standard Form 424A, Budget Information—Non Construction Programs; OMB Standard Form 424B, Assurances—Non Construction Programs (these forms are available at http://www.grants.gov); and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there needs to be an unbound original and three copies of the full proposal (program and budget narratives, application forms and assurances). The original should have the applicant's signature in blue ink.

Authority: Public Law 93-415.

Funds Available: Up to $100,000 is available for this project, subject to available funding, but preference will be given to applicants who provide the most cost efficient solutions in accomplishing the scope of work. Determination will be made based on best value to the Government, not necessarily the lowest bid. Funds may be used only for the activities that are directly related to the project.

Eligibility of Applicants: An eligible applicant is any public or private agency, educational institution, organization, individual, or team with expertise in the areas described.

This project will be a collaborative venture with the NIC Administration Division. A blog for the project is on NIC's website. Literature analysis summaries, meeting reports, the annotated bibliography, and a Web-based survey can be found on the blog. Visit http://community.nicic.org/blogs/hpco/default.aspx today!

Review Considerations: Applications received under this announcement will be subject to the NIC Review Process. The criteria for the evaluation of each application will be as follows:

Programmatic: Are all of the tasks adequately discussed? Is there a clear statement of how each of the tasks will be accomplished, including the staffing, resources, and strategies to be employed? Are there any innovative approaches, techniques, or design aspects proposed that will enhance the project?

Organizational: Do the skills, knowledge, and expertise of the organization and the proposed project staff demonstrate the high level of competency in high performing organizations, culture, Baldrige criteria, and change management needed to complete the tasks? Does the applicant organization have the necessary experience and organizational capacity to complete all eight goals of the project? Are the proposed project management and staffing plans realistic and sufficient to complete the project within the 8-month timeframe?

Project Management/Administration: Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Number of Awards: One.

NIC Opportunity Number: 10M15. This number should appear as a reference line in the cover letter, where the opportunity number is requested on the Standard Form 424, and outside of the envelope in which the application is sent.

Catalog of Federal Domestic Assistance Number: 16.602.

Executive Order 12372: This program is not subject to the provisions of Executive Order 12372.

Morris L. Thigpen,
Director, National Institute of Corrections.

[FR Doc. 2010-17487 Filed 7-16-10; 8:45 am]

BILLING CODE 4410-36-M